ENVIRONMENTAL PROTECTION AGENCY

[EPA-HQ-OW-2015-0753; FRL-9939-57-OW]

Request for Scientific Views on the Draft Recommended Aquatic Life Ambient Water Quality Criteria for Cadmium—2015

AGENCY: Environmental Protection Agency (EPA).

ACTION: Notice of availability.

SUMMARY: The Environmental Protection Agency (EPA) is announcing its draft recommended aquatic life water quality criteria for cadmium for public comment. EPA is updating its national recommended ambient water quality criteria for cadmium in order to reflect the latest scientific information, and current EPA policies and methods. Following closure of this public comment period, EPA will consider scientific views from the public on this draft document as well as any new data or information received. EPA will then publish a Federal Register notice announcing the availability of the final cadmium criteria. Once finalized, EPA's water quality criteria for cadmium will provide recommendations to states and tribes authorized to establish water quality standards under the Clean Water Act. In adopting water quality standards, states set exposure protections for aquatic life; chronic exposure to cadmium negatively impacts growth, development, behavior, reproduction, and immune and endocrine systems in aquatic life.

DATES: Comments must be received on or before February 1, 2016.

ADDRESSES: Submit your comments, identified by Docket ID No. EPA-HQ-OW-2015-0753, to the Federal eRulemaking Portal: http://www.regulations.gov. Follow the online instructions for submitting comments. Once submitted, comments cannot be edited or withdrawn. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Mike Elias, Health and Ecological Criteria Division, Office of Water (Mail Code 4304T), Environmental Protection Agency, 1200 Pennsylvania Avenue NW., Washington, DC 20460; telephone number: (202) 566-0120; email address: elias.mike@epa.gov.

SUPPLEMENTARY INFORMATION:

I. General Information

A. How can I get copies of this document and other related information?

1. Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the EPA-HQ-OW-2015-0753 Docket, EPA/DC, EPA West, Room 3334, 1301 Constitution Ave. NW., Washington, DC. The Public Reading Room is open from 8:30 a.m. to 4:30 p.m., Monday through Friday, excluding legal holidays. The telephone number for the Public Reading Room is (202) 566-1744, and the telephone number for the EPA-HQ-OW-2015-0753 Docket is (202) 566-2426. For additional information about EPA's public docket, visit EPA Docket Center homepage at http://www.epa.gov/epahome/dockets.htm.

II. What are EPA's recommended water quality criteria?

EPA's recommended water quality criteria are scientifically derived numeric values that protect aquatic life or human health from the deleterious effects of pollutants in ambient water. Section 304(a)(1) of the Clean Water Act (CWA) directs EPA to develop and publish and, from time to time, revise criteria for protection of aquatic life and human health that accurately reflect the latest scientific knowledge. Water quality criteria developed under section 304(a) are based solely on data and the latest scientific knowledge on the relationship between pollutant concentrations and environmental and human health effects. Section 304(a) criteria do not reflect consideration of economic impacts or the technological feasibility of meeting pollutant concentrations in ambient water.

EPA's recommended section 304(a) criteria provide technical information to states and authorized tribes in adopting water quality standards (WQS) that ultimately provide a basis for assessing water body health and controlling discharges or releases of pollutants. Under the CWA and its implementing regulations, states and authorized tribes are to adopt water quality criteria to protect designated uses (e.g., public water supply, aquatic life, recreational use, or industrial use). EPA's recommended water quality criteria do not substitute for the CWA or regulations, nor are they regulations themselves. EPA's recommended criteria do not impose legally binding requirements. States and authorized tribes have the discretion to adopt, where appropriate, other scientifically defensible water quality criteria that differ from these recommendations.

III. What is cadmium and why is EPA concerned about it?

Cadmium is a relatively rare, naturally occurring metal found in mineral deposits and distributed ubiquitously at low concentrations in the environment. Cadmium's primary industrial uses are for the manufacturing of batteries, pigments, plastic stabilizers, metal coatings, alloys and electronics. Recently, cadmium has been used in manufacturing nanoparticles (quantum dots) for use in solar cells and color displays. Cadmium is a non-essential metal with no biological function in aquatic life. Chronic exposure leads to adverse effects on growth, reproduction, immune and endocrine systems, development and behavior in aquatic organisms.

IV. Information on the Draft Aquatic Life Ambient Water Quality Criteria for Cadmium

EPA prepared an update of the chronic aquatic life criteria document for cadmium based on the latest scientific information and current EPA policies and methods, including EPA's Guidelines for Deriving Numerical National Water Quality Criteria for the Protection of Aquatic Organisms and Their Uses (1985) (EPA/R-85-100) and Guidelines for Ecological Risk Assessment (1998) (EPA/630/R-95/002F). The draft 2015 updated criteria include new data for 70 species and 49 genera not previously represented. The draft freshwater acute criterion was derived to be protective of endangered species and further lowered to protect the commercially and recreationally important rainbow trout, consistent with procedures described in EPA's current aquatic life criteria guidelines; the freshwater acute value is approximately the same as the 2001 acute criterion for dissolved cadmium. The draft freshwater chronic criterion is slightly higher (i.e., less stringent) compared to the 2001 criterion for dissolved cadmium; this increase is primarily due to the inclusion of new data.

The draft estuarine/marine acute criterion for dissolved cadmium is slightly more stringent than the 2001 recommended criterion, which is primarily due to the addition of data. Draft changes in suggested values between 2001 and 2015 can be found in Table 1 below.

Table 1—Summary of 2001 and 2015 Draft Aquatic Life AWQC for Cadmium
| 2015 AWQC Update: Acute (1-hour, dissolved Cd)ᶜ | 2015 AWQC Update: Chronic (4-day, dissolved Cd) | 2001 AWQC: Acute (1-day, dissolved Cd) | 2001 AWQC: Chronic (4-day, dissolved Cd)
Freshwater (Total Hardness = 100 mg/L as CaCO3) ᵃ | 2.1 µg/L ᵇ | 0.73 µg/L | 2.0 µg/L ᵇ | 0.25 µg/L.
Estuarine/marine | 35 µg/L | 8.3 µg/L | 40 µg/L | 8.8 µg/L.
ᵃ Freshwater acute and chronic criteria are hardness-dependent and were normalized to a hardness of 100 mg/L as CaCO3 to allow the presentation of representative criteria values.
ᵇ Lowered to protect the commercially and recreationally important species (rainbow trout), as per the 1985 Guidelines, Stephen et al. (1985).
ᶜ The duration of the 2015 acute criteria was changed to 1-hour to reflect the 1985 Guidelines-based recommended acute duration.

EPA will consider the public comments, revise the document as necessary, and issue a final updated cadmium criteria document. This draft criteria document does not represent and should not be construed to represent any final EPA policy, viewpoint, or determination.

V. What is the relationship between the draft chronic water quality criterion and your state or tribal water quality standards?

As part of the WQS triennial review process defined in section 303(c)(1) of the CWA, the states and authorized tribes are responsible for maintaining and revising WQS. Standards consist of designated uses, water quality criteria to protect those uses, a policy for antidegradation, and may include general policies for application and implementation. Section 303(c)(1) requires states and authorized tribes to review and modify, if appropriate, their WQS at least once every three years.

States and authorized tribes must adopt water quality criteria that protect designated uses. Protective criteria are based on a sound scientific rationale and contain sufficient parameters or constituents to protect the designated uses. Criteria may be expressed in either narrative or numeric form. States and authorized tribes have four options when adopting water quality criteria for which EPA has published section 304(a) criteria. They can:

(1) Establish numerical values based on recommended section 304(a) criteria;

(2) Adopt section 304(a) criteria modified to reflect site-specific conditions;

(3) Adopt criteria derived using other scientifically defensible methods; or

(4) Establish narrative criteria where numeric criteria cannot be established or to supplement numerical criteria (40 CFR 131.11(b)).

EPA's regulation at 40 CFR 131.20(a) states that if a state does not adopt new or revised criteria parameters for which EPA has published new or updated recommendations, then the state shall provide an explanation when it submits the results of its triennial review to the Regional Administrator consistent with CWA section 303(c)(1). The recommendations in the draft cadmium criteria document may change based on scientific views shared in response to this notice. Upon finalization, the updated cadmium criteria would supersede EPA's previous 304(a) criteria for cadmium. Consistent with 40 CFR 131.21, new or revised water quality criteria adopted into law or regulation by states and authorized tribes on or after May 30, 2 000 are applicable water quality standards for CWA purposes only after EPA approval.

VI. Solicitation of Scientific Views

EPA is soliciting additional scientific views, data, and information regarding the science and technical approach used by the Agency in the derivation of this draft criteria for cadmium. The Agency is also interested in obtaining information regarding new toxicity tests on Hyalella azteca (amphipod); latent acute effects of cadmium following short exposures; and new estuarine marine chronic toxicity tests.

VII. Additional Information

EPA conducted a contractor-led and independent external peer review of the draft Aquatic Life Ambient Water Quality Criteria for Cadmium document in October 2015. EPA will make the external peer review comments and Agency responses to these comments available in the docket with the revised draft cadmium criteria document at http://www.regulations.gov.

Dated: November 24, 2015.
Joel Beauvais,
Acting Deputy Assistant Administrator, Office of Water.

[FR Doc. 2015-30493 Filed 11-30-15; 8:45 am]

BILLING CODE 6560-50-P